DEPARTMENT OF TRANSPORTATION

Federal Motor Carrier Safety Administration

[DOT Docket No. FMCSA-99-5867]

Parts and Accessories Necessary for Safe Operation; Fuel Tank Exemptions for Vehicles Manufactured by the Ford Motor Company

AGENCY: Federal Motor Carrier Safety Administration (FMCSA), DOT.

ACTION: Notice of applications for exemptions and intent to grant exemptions; request for comments.

SUMMARY: The FMCSA is announcing its intent to grant exemptions for additional vehicles specified at the end of this notice, in response to an application from the Ford Motor Company (Ford), from certain fuel tank design and certification labeling requirements in the Federal Motor Carrier Safety Regulations (FMCSRs). This exemption would enable motor carriers to continue operating commercial motor vehicles (CMVs) manufactured by Ford, and equipped with fuel tanks that do not meet the FMCSA's requirements that fuel tanks be capable of receiving fuel at a rate of at least 20 gallons per minute, and be labeled or marked by the manufacturer to certify compliance with the design criteria. The FMCSA believes the terms and conditions of the current exemptions have ensured a level of safety that is equivalent to the level of safety that would be achieved by complying with the regulations, and that granting the additional exemptions would not adversely affect highway safety. The additional exemptions, if granted, would continue to preempt inconsistent State and local requirements applicable to interstate commerce.

DATES: Comments must be received on or before January 28, 2002.

FOR FURTHER INFORMATION CONTACT: Ms. Deborah M. Freund, Office of Bus and Truck Standards and Operations, (202) 366-4009, Federal Motor Carrier Safety Administration, 400 Seventh Street, SW., Washington, DC 20590-0001. Office hours are from 7:45 a.m. to 4:15 p.m., e.t., Monday through Friday, except Federal holidays.

SUPPLEMENTARY INFORMATION:

Electronic Access

You can mail or deliver comments to the U.S. Department of Transportation, Dockets Management Facility, Room PL-401, 400 Seventh Street, SW., Washington, DC 20590-0001. You can also submit comments electronically at http://dms.dot.gov. Please include the docket number that appears in the heading of this document. You can examine and copy this document and all comments received at the same Internet address or at the Dockets Management Facility from 9 a.m. to 5 p.m., e.t., Monday through Friday, except Federal holidays. If you want to know that we received your comments, please include a self-addressed, stamped postcard or include a copy of the acknowledgement page that appears after you submit comments electronically.

Background

Ford's Applications for Exemptions

Ford first applied in April 1999 for exemptions from 49 CFR 393.67(c)(7)(ii), which requires that certain fuel tank systems on CMVs be designed to permit a fill rate of at least 20 gallons (75.7 liters) per minute, and 49 CFR 393.67(f)(2) and (f)(3), which require that liquid fuel tanks be marked with the manufacturer's name and a certification that the tank conforms to all applicable rules in § 393.67, respectively.

On August 10, 1999 (64 FR 43417), the FHWA published a notice of intent to grant Ford's applications. The FHWA requested public comment on Ford's applications and the agency's safety analysis, and presented other relevant information known to the agency. After considering all the comments received, the agency granted the exemptions on December 20, 1999 (64 FR 71184). In that notice (at 71185), the agency noted that the 20 gallon per minute rate referenced in the FMCSA's regulations, while appropriate for diesel fuel-powered vehicles, mandates that fill pipes on gasoline-powered vehicles be capable of receiving fuel at twice the maximum rate gasoline pumps are designed to dispense fuel. The vehicles in question are gasoline-fueled and are capable of receiving fuel at a rate of 17 gallons per minute.

The exemptions covered § 393.67(c)(7)(ii), Construction of liquid fuel tanks; fill pipe, and §§ 393.67(f)(2) and (f)(3)(ii) which require that liquid fuel tanks be marked with the manufacturer's name, and a certification that the tank conforms to all applicable rules in § 393.67, respectively. The exemptions were granted for two years.

On November 2, 2001 (66 FR 55727) the FMCSA published a notice of its intent to renew these exemptions. The FMCSA received one comment, from Ford. Ford requested that the FMCSA renew its exemption for the fuel tanks covered in the November 2, 2001 notice. Ford also requested additional exemptions for the vehicles specified at the end of this notice to cover the fuel tanks of additional models of E-series vehicles that were not in production at the time of the original 1999 petition, and for certain F-series vehicles.

In a separate notice in today's Federal Register, the FMCSA has decided to renew the exemption granted for the vehicles specified in Ford's original petition.

Basis for Preliminary Determination To Grant the Additional Exemptions

The FMCSA intends to grant the requested additional exemptions because the commercial motor vehicles covered by the exemptions are substantially similar to those covered by the original exemption. The vehicles that are the subject of Ford's new petition are E-series and F-series vehicles that were not in production at the time of Ford's original petition. Ford states that the exemptions for these vehicles are needed for the same reasons described in their original request. Among other things:

they are equipped with fuel tanks mounted between the frame rails, use a fill system conforming to Environmental Protection Agency (EPA) fill requirements, and are designed for conformance to FMVSS [Federal Motor Vehicle Safety Standard] 301 performance requirements. Although the vehicles over 10,000 [lbs.] GVWR are not required to meet FMVSS 301, the fill system on these vehicles is based on the design for vehicles conforming to FMVSS 301.

These vehicles are still in operation, and the agency is not aware of any information, anecdotal or otherwise, that would suggest that the level of safety for the exempted vehicles is not equivalent to the level of safety of that would have been achieved if the vehicles complied with §§ 393.67(c)(7)(ii), 393.67(f)(2), and 393.67(f)(3)(ii). No interested parties have contacted the FMCSA or submitted comments to the docket since the original exemption was granted, on December 20, 1999, indicating that any aspects of the exemptions have had an adverse effect on highway safety. Accordingly, the agency is proposing to grant the exemptions for these additionally specified similar vehicles.

Terms and Conditions for the Exemption

The FMCSA would continue to provide exemptions to §§ 393.67(c)(7)(ii), 393.67(f)(2), and 393.67(f)(3)(ii) for motor carriers operating additional Ford Econoline-based vehicles, as specified in the next paragraph. The exemption renewal would be effective upon publication in the Federal Register pursuant to 5 U.S.C. 553(d)(1) and would be valid for two years from the date of approval, unless revoked earlier by the FMCSA. Ford, or any of the affected motor carriers, may apply to the FMCSA for another renewal of the exemption. The exemption would continue to preempt inconsistent State or local requirements applicable to interstate commerce.

As with the original exemption, the motor carriers operating these vehicles would not be required to maintain documentation concerning the exemption because the vehicles and fuel tanks have markings that would enable enforcement officials to identify them. The vehicles covered by the exemptions can be identified by their vehicle identification numbers (VINs). The VINs for the additional E-series vehicles contain E35 or E55 codes in the fifth, sixth, and seventh positions. The fuel tanks are marked with Ford part numbers F3UA-9002-G*, F3UA-9002-H*, F4UA-9002-V*, F4UA-9002-X*, F5UA-9002-V*, F5UA-9002-X*, F6UA-9002-Y*, F6UA-9002-Z*, F7UA-9002-C*, F7UA-9002-D*, YC25-9002-D* (a new fuel tank for E37 series vehicles), or 2C24-9002-E* (a new fuel tank for E55 series vehicles) where the asterisk (*) represents a “wild card” character (any character of the alphabet). The VINs for the F-series vehicles contain an F53 code in the fifth, sixth, and seventh positions. The fuel tanks are marked with part numbers 1C34-9K007-F*, 1C34-9K007-G*, and 1C34-9K007-H* where the asterisk (*) represents a “wild card” character (any character of the alphabet).

Request for Comments

In accordance with 49 U.S.C. 31315 and 31136(e), the FMCSA is requesting public comment from all interested persons on the exemption proposal. All comments received before the close of business on the comment closing date indicated at the beginning of this notice will be considered and will be available for examination in the docket at the location listed under the address section of this notice. Comments received after the comment closing date will be filed in the public docket and will be considered to the extent practicable, but the FMCSA may renew the exemptions at any time after the close of the comment period. In addition to late comments, the FMCSA will also continue to file, in the public docket, relevant information that becomes available after the comment closing date. Interested persons should continue to examine the public docket for new material.

Issued on: December 20, 2001.
Joseph M. Clapp,
Administrator.

[FR Doc. 01-31736 Filed 12-20-01; 2:51 pm]

BILLING CODE 4910-22-P